DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2000, there were three applications approved. This notice also includes information on one application, approved in July 2000, inadvertently left off the July 2000 notice. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Greater Baton Rouge Airport District, Baton Rouge, Louisiana.

Application Number: 00-05-C-00-BTR.

Application Type: Impose and Use a PFC.

PFC Level: $3.00.

Total PFC Revenue Approved in This Decision: $6,504,390.

Earliest Charge Effective Date: August 1, 2016.

Estimated Charge Expiration Date: January 1, 2022.

Class of Air Carriers Not Required to Collect PFC's: Part 135 on-demand air taxi/commercial operators filing FAA Form 1800-31.

Determination: Approved. Based on information contained in the public agency's application, the FAA has determined that the approved class accounts for less than 1 percent of the total annual enplanements at Greater Baton Rouge Metropolitan Airport.

Brief Description of Projects Approved for Collection and Use:

Construct and realign airport access road.

Acquire and install six passenger loading bridges.

Decision Date: July 25, 2000.

FOR FURTHER INFORMATION CONTACT: G. Thomas Wade, Southwest Region Airports Division, (817) 222-5613.

Public Agency: Palm Beach County, Department of Airports, West Palm Beach, Florida.

Application Number: 00-05-C-00-PBI.

Application Type: Impose and use a PFC.

PFC Level: $3.00.

Total PFC Revenue Approved in This Decision: $37,324,000.

Earliest Charge Effective Date: December 1, 2000.

Estimated Charge Expiration Date: November 1, 2005.

Class of Air Carriers Not Required to Collect PFC's: Air taxi/commercial operators filing FAA Form 1800-31.

Determination: Approved. Based on information contained in the public agency's application, the FAA has determined that the approved class accounts for less than 1 percent of the total annual enplanements at Palm Beach International Airport.

Brief Description of Projects Approved for Collection and Use:

Construct concourse B expansion.

Baggage improvements and rehabilitation.

Brief Description of Projects Approved for Collection:

Construct taxiway A extension and canal relocation.

Construct perimeter road.

Terminal signage.

Rehabilitate cabin air system.

Acquire noise land within 65 to 69 DNL.

Expand terminal concourse C.

Decision Date: August 22, 2000.

FOR FURTHER INFORMATION CONTACT: Vernon P. Rupita, Orlando Airports District Office, (407) 812-6331, ext. 24.

Public Agency: City of Fayetteville, North Carolina.

Application Number: 00-01-C-00-FAY.

Application Type: Impose and use a PFC.

PFC Level: $3.00.

Total PFC Revenue Approved in This Decision: $892,620.

Earliest Charge Effective Date: November 1, 2000.

Estimated Charge Expiration Date: October 1, 2002.

Class of Air Carriers Not Required to Collect PFC's: None.

Brief Description of Projects Approved for Collection and Use:

Airport entrance road.

Jetway system modifications.

Security system upgrade.

Preplanning associated with the runway safety areas.

Construction of a fire training facility and the rehabilitation of a 1,500 gallon aircraft rescue and firefighting (ARFF) vehicle.

Update airport master plan.

Installation of taxiway guidance signs and runway end identification lights.

Design of new general aviation area.

Acquire foreign object damage sweeper.

Installation of terminal loading bridges.

Construction of new general aviation area.

Acquire handicap lift device.

Acquire ARFF vehicle.

Design of non-licensed vehicle road.

Design of taxiway K (revised).

Installation of water main.

Design Highway 301 connector.

Land acquisition.

Improve terminal building.

Design of taxiway K extension.

Rehabilitate general aviation apron.

Acquire land for development.

Rehabilitate terminal building.

Install security access control system.

Brief Description of Projects Approved for Collection:

Construct north general aviation ramp.

Security system upgrade phase II.

Design and construct runway safety area, runway 4.

Acquire land.

Renovate terminal, phase II.

Construct runway safety area, runway 4 (phase 2).

Land acquisition.

Renovate terminal, phase III.

Construct runway safety area, runway 22.

Acquire land.

Acquire land in fee.

Construct non-license vehicle road.

Construct jet bridge modification.

Construct taxiway K.

Brief Description of Disapproved Project:

Rehabilitate runway 10/28.

Determination: Disapproved. The FAA has determined that the runway proposed for rehabilitation is an ineligible crosswind runway. Paragraph 521(c) of FAA Order 5100.38A, Airport Improvement Program (AIP) Handbook (October 24, 1989) states that, in order for a crosswind runway to be AIP eligible, the wind coverage on the primary runway must be less than 95 percent or the capacity of the primary runway is not sufficient to meet current and near term demand. The airport does not meet either criteria to make a crosswind runway AP eligible. Therefore, this project doesn't meet the requirements of § 158.15(b)(1).

Decision Date: August 28, 2000.

FOR FURTHER INFORMATION CONTACT: Lee Kyker, Atlanta Airports District Office, (404) 305-7161.

Public Agency: Central West Virginia Regional Airport Authority, Charleston, West Virginia.

Application Number: 00-06-C-00-CRW.

Application Type: Impose and use a PFC.

PFC Level: $3.00.

Total PFC Revenue Approved in This Decision: $992,810.

Earliest Charge Effective Date: February 1, 2001.

Estimated Charge Expiration Date: August 1, 2002.

Classes of Air Carriers Not Required to Collect PFC's:

(1) Part 135 charter operators for hire to the general public; (2) Part 121 charter operators for hire to the general public.

Determination: Approved. Based on information contained in the public agency's application, the FAA has determined that each approved class accounts for less than 1 percent of the total annual enplanements at Yeager Airport.

Brief Description of Projects Approved for Collection and Use:

Acquire two snow plows.

Main terminal apron extension.

Acquire snow broom.

Environmental assessment—safety area.

Emergency generator connection.

Terminal building expansion.

Two passenger loading bridges.

Passenger access walkway.

Brief Description of Withdrawn Project:

Benefit/cost analysis.

Determination: This project was withdrawn by the public agency in its letter dated August 30, 2000. Therefore, the FAA did not rule on this project in this decision.

Decision Date: August 30, 2000.

FOR FURTHER INFORMATION CONTACT: Kenneth Kroll, Eastern Region Airports Division, (718) 553-3357.

Amendments to PFC Approvals
Amendment No. city, state | Amendment approved date | Original approved net PFC revenue | Amended approved net PFC revenue | Original estimated charge exp. date | Amended estimated charge exp. date
94-01-C-02-TUP | 06/09/00 | $490,400 | $430,550 | 12/01/07 | 03/01/04
Tupelo, MS
98-02-U-01-TUP | 06/09/00 | NA | NA | 12/01/07 | 03/01/04
Tupelo, MS
95-01-C-02-IMT | 08/10/00 | 122,367 | 130,214 | 01/01/01 | 03/01/01
Iron Mountain, MI
97-02-C-01-CHA | 08/10/00 | 2,803,262 | 150,000 | 07/01/10 | 08/01/05
Chattanooga, TN
96-03-C-01-LAX | 08/25/00 | 59,902,000 | 52,027,000 | 02/01/04 | 01/01/04
Los Angeles, CA
92-01-I-07-PHL | 08/25/00 | 103,824,405 | 100,014,092 | 07/01/11 | 02/01/11
Philadelphia, PA
95-03-C-03-PHL | 08/25/00 | 14,000,000 | 9,994,274 | 07/01/11 | 02/01/11
Philadelphia, PA
98-06-C-04-PHL | 08/25/00 | 14,000,000 | 8,500,000 | 07/01/11 | 02/01/11
Philadelphia, PA

Issued in Washington, DC on September 14, 2000.
Eric Gabler,
Manager, Passenger Facility Charge Branch.

[FR Doc. 00-24146 Filed 9-19-00; 8:45 am]

BILLING CODE 4910-13-M